EXECUTIVE OFFICE OF THE PRESIDENT

Office of National Drug Control Policy

Paperwork Reduction Act; Proposed Collection; Comment Request

AGENCY: Office of National Drug Control Policy.

ACTION: Notice of submission to OMB and 30-day public comment period. Reinstatement with change of previously approved collection: Drug-Free Communities (DFC) Support Program national evaluation.

SUMMARY: In accordance with the Paperwork Reduction Act of 1995, the Office of National Drug Control Policy (ONDCP) announces it will submit to the Office of Management and Budget (OMB) and Office of Information and Regulatory Affairs (OIRA) an information collection request. The purpose of this notice is to allow for an additional 30 days of public comment.

DATES: Public comments will be accepted until August 29, 2019.

ADDRESSES: Interested persons are invited to submit comments regarding this proposal. Comments should refer to the collection title by name or OMB Control Number, and should be sent to: Desk Officer for ONDCP, Office of Information and Regulatory Affairs, Office of Management and Budget, 725 17th Street NW, Room 10235, New Executive Office Building, Washington, DC 20503 or electronically mailed to oira_submission@omb.eop.gov.

FOR FURTHER INFORMATION CONTACT: Helen Hernandez, Associate Director, Drug-Free Communities (DFC) Support Program. Email is the most reliable means of communication. Ms. Hernandez's email address is HHernandez@ondcp.eop.gov. Mailing address is: Executive Office of the President, Office of National Drug Control Policy, Drug-Free Communities (DFC) Support Program, 1800 G Street NW, Suite 9110, Washington, DC 20006. Copies of documents submitted to OMB and other information is available from Ms. Hernandez who may be contacted at 202-395-6665.

SUPPLEMENTARY INFORMATION: This notice informs the public that ONDCP has submitted to OMB a request for approval of the information collection described in Section A. The Federal Register notice that solicited public comment on the information collection for a period of 60 days was published May 9, 2019, 84 FR 20357.

A. Overview of Information Collection

Title of Information Collection: Web-based data collection, surveys and interviews of Drug-Free Communities (DFC) Support Program and Community-Based Coalition Enhancement Grants to Address Local Drug Crisis (CARA Local Drug Crisis) Program grant award recipients.

Title: Drug-Free Communities (DFC) Support Program National Evaluation.

OMB Approval Number: 3201-0012.

Type of Request: Reinstatement with change of a previously approved collection.

Form Number: NA.

Description of the need for the information and proposed use: ONDCP administers the Drug-Free Communities (DFC) Support Program and Community-Based Coalition Enhancement Grants to Address Local Drug Crisis (CARA Local Drug Crisis) Programs. The DFC Program has two primary goals: To reduce youth substance abuse, and to support community anti-drug coalitions by establishing, strengthening, and fostering collaboration among public and private agencies. The CARA Local Drug Crisis grant program funds current or former DFC grant award recipients to focus on preventing and reducing the abuse of opioids or methamphetamines and the abuse of prescription medications among youth ages 12-18 in communities throughout the United States.

Congress mandates an evaluation of the DFC program to determine its effectiveness in meeting objectives (see 21 U.S.C. 1521 et al.). Under the CARA Local Drug Crisis program statute, CARA Local Drug Crisis data collection is authorized and required by Public Law 114-198 Sec. 103, “a grant under this section shall be subject to the same evaluation requirements and procedures as the evaluation requirements and procedures imposed on the recipients of a grant under the Drug-Free Communities Act of 1997, and may also include an evaluation of the effectiveness at reducing abuse of opioids or methamphetamines”. ONDCP awarded a contract for a DFC grant oversight system at the end of 2014, following a competitive request for proposals process. The DFC Management and Evaluation (DFC Me) system was launched in 2016 and continues to be used (www.dfcme.ondcp .eop.gov). The development and implementation of the new DFC Me system provided an improved platform for DFC recipients to meet data reporting requirements of the grant, introduced a DFC Learning Center where resources and success stories can be shared, and strengthened ONDCP's continued oversight of the DFC program. The data collected through this system is more user friendly and validates data during entry, therefore reducing the burden on grant award recipients.

ONDCP will continue to utilize the case study protocols previously approved by OMB to document coalition practices, successes and challenges. Approximately nine DFC grant award recipients are selected each year to highlight in the case studies. The information from the case studies will be used to illustrate not only what works to reduce drug use in a community setting, but also how and why it works.

The CARA Local Drug Crisis program evaluation will make use of the monitoring and tracking questionnaire to serve as a semi-annual report for grant award recipients and will provide information to ONDCP and the Administration's effort to address the opioid crisis.

Respondents: DFC current grant award recipients and CARA Local Drug Crisis grant award recipients (includes both current and former DFC grant award recipients).

Estimated Number of Respondents: 737 (724 DFC and 13 CARA only).

Estimated Number of Responses: 2,181.

Frequency of Response: Semi-annually, annually and biennially. Progress reports semi-annually by DFC and CARA Local Drug Crisis Program Directors via DFC Me, core measures biennially by DFC and CARA Local Drug Crisis Program Directors via DFC Me and CCT annually for DFC Program Directors via DFC Me. Case study interviews of Program Directors and selected coalition members will be accomplished one time per site at nine sites.

Average Hours per Response: Varies. ONDCP expects that the time required for DFC grant award recipients to complete each semi-annual progress report will be approximately six hours, and each CCT report will take approximately one hour to complete. Face to face interviews and focus groups with DFC grant award recipients selected for site visits will take 1.5-2 hours each to complete. CARA Local Drug Crisis grant award recipients will also complete semi-annual progress reports at an estimated six hours. The estimate of time for DFC and CARA Local Drug Crisis grant award recipients includes biennial core measure data submission.

Total Estimated Burden: 9,388 (Comprehensive of all respondents over one year, including: DFC Program Directors and grant award recipients to complete progress reports, CCT surveys, and interviews; and CARA Local Drug Crisis grant award recipients.)

Solicitation of Public Comment

No comments were received during the 60-day notice. This notice is soliciting comments from members of the public and affected parties concerning the collection of information described in Section A on the following:

(1) Whether the proposed data are proper for the functions of the agency;

(2) Whether the information will have practical utility;

(3) The accuracy of ONDCP's estimate of the burden of the proposed collection of information, including the validity of the methodology and assumptions;

(4) Ways to enhance the quality, utility, and clarity of the information to be collected; and, ways to ease the burden on proposed respondents, including the use of automated collection techniques or other forms of information technology.

ONDCP encourages interested parties to submit comments in response to these questions.

Authority: The Paperwork Reduction Act of 1995, 44 U.S.C. Chapter 35.

Dated: July 15, 2019.
Michael Passante,
Deputy General Counsel.

[FR Doc. 2019-15303 Filed 7-17-19; 8:45 am]

BILLING CODE 3180-F5-P